DEPARTMENT OF HEALTH AND HUMAN SERVICES

Administration for Children and Families

Submission for OMB Review; Child Abuse and Neglect Background Checks for Child Care and Early Education Project (New Collection)

AGENCY: Office of Planning, Research, and Evaluation, Administration for Children and Families, Department of Health and Human Services.

ACTION: Request for public comments.

SUMMARY: The Office of Planning, Research, and Evaluation (OPRE), Administration for Children and Families (ACF) is proposing an information collection activity for the Child Abuse and Neglect Background Checks for Child Care and Early Education (CAN Checks for CCEE) Project. The goal of the project is to better understand how states and territories use findings from CAN registry background checks, as required by the Child Care and Development Block Grant Act of 2014 (CCDBG), to make child care employment eligibility determinations. The study will also be used to understand state and territory variation, facilitators, and challenges in implementing CAN registry background checks; and explore any resulting within- or across-state/territory equity implications.

DATES: Comments due within 30 days of publication. The Office of Management and Budget (OMB) must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review-Open for Public Comments” or by using the search function. You can also obtain copies of the proposed collection of information by emailing OPREinfocollection@acf.hhs.gov. All emailed requests should be identified by the title of the information collection.

SUPPLEMENTARY INFORMATION:

Description: The proposed information collections for the CAN Checks for CCEE Project is designed to explore how states and territories implement CAN registry background checks for child care employment eligibility decisions. While the CCDBG Act of 2014 clearly describes procedures and exclusionary criteria pertaining to the use of criminal and sexual offender registry background checks to inform child care employment eligibility decisions, requirements for the use of CAN registry background checks are less clear. The findings will be of interest to ACF, and, in particular, to OPRE and the Office of Child Care, who are interested in the effective and equitable implementation of CAN registry background checks for prospective and current child care staff. Findings will also be of interest to Child Care and Development Fund (CCDF) state/territory lead agencies that oversee the CCDF program in their states/territories and the state/territory offices that oversee early care and education. The results of this study also have implications for child care programs and staff. Further, given the U.S. Congress' interest in prior exploratory work on this topic, it may also be informative to federal lawmakers.

CCDF lead agency staff that participate in this information collection will be asked to complete a voluntary, one-time web-based survey. The survey will focus on the practices and policies related both to in-state/territory and interstate CAN registry checks, including what data they request and receive, as well as how they use it in making child care employment eligibility decisions.

Respondents: Each state, territory, and the District of Columbia will be invited to complete one web-based survey. Given that each agency may have multiple staff members with relevant knowledge of different survey topics and no one staff member may possess all of the knowledge to complete the survey, CCDF Lead Agencies may have multiple staff members work together to complete the survey. For burden estimates, we are assuming up to 3 respondents may work on the survey per state/territory (up to 168 total individuals). Only one survey will be submitted for each state/territory.

Annual Burden Estimates
Instrument | Number of respondents (total over request period) | Number of responses per respondent (total over request period) | Avg. burden per response (in hours) | Total/annual burden (in hours)
Instrument 1: CCDF Lead Agency Survey | 168 | 1 | * 0.75 | 126
* Note that this is the estimated time to complete the full survey, which could be completed by one individual or multiple individuals. Surveys completed by multiple individuals will take less time for each individual to provide a response.

Authority: Research funding set-aside authorized by the CCDBG Act of 2014 and funded by CCDF. Section 658O(a)(5) of CCDBG (as codified at 42 U.S.C. 9857 et seq) grants the Secretary of HHS the authority to reserve up to ½ percent of the total Discretionary and Mandatory CCDF funding “to conduct research and demonstration activities, as well as periodic external, independent evaluations of the impact of the program described by this subchapter on increasing access to child care services and improving the safety and quality of child care services, using scientifically valid research methodologies, and to disseminate the key findings of those evaluations widely and on a timely basis.”

Mary C. Jones,
ACF/OPRE Certifying Officer.

[FR Doc. 2024-17723 Filed 8-8-24; 8:45 am]

BILLING CODE 4184-23-P